DEPARTMENT OF THE INTERIOR

Bureau of Land Management

[ID-090-5700-10; IDI-22311]

Notice of Realty Action, Sale of Public Lands in Ada County, ID

AGENCY: Bureau of Land Management, Interior.

ACTION: Sale of public lands in Ada County.

SUMMARY: The following-described public land has been found suitable for direct sale under section 203 of the Federal Land Policy and Management Act of 1976 (90 Stat. 2750, 43 U.S.C. 1713), at not less than fair market value. It has been determined that the subject parcel contains no known mineral values; therefore, mineral interest will be conveyed simultaneously under Section 209. The land will not be offered for sale until at least 60 days after the date of publication of this notice in the Federal Register.

Boise Meridian, Idaho

T. 4 N., R. 2 E., section 7: NW¼NE¼, NE¼NW¼.

The area described contains 80 acres, more or less.

DATES: Upon publication of the notice in the Federal Register, the land described above will be segregated from appropriation under the public land laws, including the mining laws, except the sale provision of the Federal Land Policy and Management Act. The segregative effect will end upon issuance of patent or 270 days from the date of publication, whichever occurs first.

ADDRESSES: Lower Snake River District, 3948 Development Avenue, Boise, Idaho, 83705.

FOR FURTHER INFORMATION CONTACT: Mike Austin, Realty Specialist, at the address shown above or telephone (208) 384-3339.

SUPPLEMENTARY INFORMATION: We are offering this land by direct sale to Ada County. Disposal of this tract will serve important public objectives for the continuation and expansion of the Seaman Gulch Sanitary Landfill. It will allow Ada County to better utilize their adjoining private property for landfill purposes.

For a period of 45 days from the date of publication of this notice in the Federal Register, interested parties may submit comments to the District Manager at the above address. In the absence of timely objections, this proposal shall become the final determination of the Department of the Interior.

The reservations, terms and conditions of this sale are as follows:

1. Excepting and reserving to the United States: A right-of-way thereon for ditches or canals constructed by the authority of the United States under the Act of August 30, 1890, (43 U.S.C. 945).

2. Subject to: Those rights asserted by Ada County, its successors or assigns, for an existing road exercised under RS 2477 and noted under right-of-way no. IDI-20038. Those rights for telephone line purposes granted to Qwest Corporation, its successors or assigns, by right-of-way no. IDI-20976 as to the NE¼NW¼ of section 7, T. 4 N., R. 2 E., B.M.

Dated: July 19, 2001.
Katherine Kitchel,
District Manager.

[FR Doc. 01-20171 Filed 8-10-01; 8:45 am]

BILLING CODE 4310-GG-P